DEPARTMENT OF THE INTERIOR

National Park Service

Cattle Point Road Relocation; Draft Environmental Impact Statement; San Juan Island National Historical Park; San Juan County, WA; Notice of Availability

Summary: Pursuant to the National Environmental Policy Act of 1969 (Pub. L. 91-190, as amended), and the Council on Environmental Quality Regulations (40 CFR part 1500-1508), the National Park Service (NPS), and the Federal Highway Administration (FHWA), Department of Transportation, co-lead agencies for this project, in cooperation with San Juan County, Washington and the Washington State Department of Natural Resources, have prepared a draft environmental impact statement (DEIS) for alternatives designed to respond to coastal bluff erosion which threatens Cattle Point Road located in San Juan Island National Historical Park (Park), Washington. The DEIS identifies and analyzes three “action” alternatives for road realignment that respond to agency planning requirements and to the public's concerns and relevant environmental issues, identified during the scoping and early public involvement process. The potential environmental consequences of the alternatives, and appropriate measures to minimize or avoid harm, are identified and analyzed in the DEIS. An “environmentally preferred” alternative is also identified.

Background: A portion of the Cattle Point Road which terminates on the southeastern tip of San Juan Island is threatened by coastal erosion at the base of the slope traversed by the road. This road passes through the Park and serves residences on a peninsular area of the island known as Cattle Point, as well provides public access to the Cattle Point Natural Resource Conservation Area, managed by the Washington Department of Natural Resources (DNR). If erosion continues unabated, the roadway eventually will fail, disrupting vehicular access to these areas. The road is currently maintained by San Juan County (County); the project area of potential effect is primarily within the Park. The entire Park is listed on the National Register of Historic Places as a National Historic Landmark.

A Notice of Intent to begin the conservation planning and environmental impact analysis for the project was published in the Federal Register on February 6, 2004. The NPS and the FHWA, along with the County and the DNR, organized an interdisciplinary team consisting of members from the four agencies. A previous scoping effort begun by the County in 2001 was incorporated into the current project. Public engagement was initiated through a newsletter and news release, followed by two public meetings held February 18, 2004, on San Juan Island. Project team members presented information and gathered feedback and ideas on preliminary alternatives and potential environmental issues. Approximately 30 public comments were received during the scoping period ending March 19, 2004.

The project team subsequently developed a Scoping Report, which described the range of potential alternatives identified for more detailed analysis, as well as alternatives dismissed from further consideration (including armoring the base of the slope in lieu of road realignment options). The Scoping Report included comments and agency responses as appendices. On June 17, 2004, a notice was sent to the 302-member project mailing list regarding release of the Scoping Report; additionally, a press release was issued and a notice posted on the Park website announcing availability of the document. In April of 2005, a newsletter was sent to the project mailing list summarizing progress on the DEIS to date, including the preliminary identification of a preferred alternative, completion of a Cultural Resource Survey and a Tunnel Feasibility Study, and plans for rare plant surveys. The project team made a presentation summarizing planning to date to the San Juan Board of County Commissioners in January, 2006; the meeting was open to the public. A plant survey report was also completed during January, 2006. Letters were sent to culturally affiliated tribes on March 9, 2006, with copies of the Cultural Resource Survey and inviting their comments on the project. The FHWA, on behalf of the project team, sent a letter to the Washington State Historic Preservation Officer (SHPO) on May 28, 2009, with a recommendation of No Adverse Effect and § 4(f) de minimis determination. Concurrence was received from the SHPO on June 23, 2009.

Proposal and Alternatives: Alternative A: No Action—The existing use, maintenance, and management associated with the road would continue without change. This alternative provides a baseline of current conditions to aid comparison and analysis of the “action” alternatives. Under this alternative, erosion eventually could cause the road to fail, disrupting vehicular access to residential properties in the Cattle Point Estates and Cape San Juan neighborhoods and to public lands east of the eroding bluff. Since measurements began in 2002, erosion has moved approximately 14 feet closer to the guard rail and is currently 32 feet from the guard rail at its closest point. The continued life span of the road is difficult to predict, however large storm events could potentially make the road unsafe in a few years—life expectancy (relative to coastal erosion) is estimated at approximately 100 years for each of the “action” alternatives.

Alternative B: Hybrid Mid-Slope Realignment—This alternative is the “agency preferred” alternative. It involves mid-slope realignment to the north of the existing road, traversing the south-facing slope of Mt. Finlayson. At its highest point, this alignment curves slightly south of the Mt. Finlayson summit. The realignment would be entirely on the surface (no tunnel), approximately 4,950 feet in length, with a short slope of 10.5% on the eastern end. This also is deemed to be the “environmentally preferred” course of action.

Alternative C: Long Tunnel on Minor Realignment—This alternative involves a short realignment (2,830 feet) relatively low on the slope of Mt. Finlayson. Sixteen hundred feet of the realignment would be within a bored tunnel. Maximum slope would be 7%.

Alternative D: Mid-Slope Alignment with Short Tunnel—This alternative involves mid-slope realignment to the north of the existing road, utilizing a short tunnel near the ridgeline of Mt. Finlayson. Realignment length would be 4,700 feet, 775 feet of which would be within the tunnel. Maximum slope would be 8%.

Public Review and Comment: The DEIS is now available for public review. Copies may be obtained by contacting the Park as noted below. Printed copies of the document may also be reviewed at these locations in Friday Harbor on San Juan Island: San Juan County Public Library, San Juan County Office of Public Works, and at Park headquarters. The document may also be reviewed at Federal Highway Administration office in Vancouver, Washington. All written comments must be postmarked or transmitted not later than 60 days from the date of publication in the Federal Register of the Environmental Protection Agency's notice of filing of the DEIS—as soon as this date is confirmed, it will be announced on the project website and via local and regional media.

During the review period, several options are available for providing written comments. Letters can be directly mailed to: Superintendent Peter Dederich, San Juan Island National Historical Park, P.O. Box 429, Friday Harbor, WA 98250. In addition, comments may be hand-delivered at the upcoming public workshop to be conducted on San Juan Island. Confirmed details on the date, location, and time for the workshop will be announced in local newspapers, in the forthcoming DEIS Alternatives newsletter, online at the Park Web site (http://www.nps.gov/sajh), or may be obtained via telephone at (360) 378-2240. Comments may also be transmitted electronically on the NPS project Web site http//parkplanning.nps.gov/sajh.

Before including your address, phone number, e-mail address, or other personal identifying information in your comment, you should be aware that your entire comment—including your personal identifying information—may be made publicly available at any time. While you can ask us in your comment to withhold your personal identifying information from public review, we cannot guarantee that we will be able to do so.

Following the opportunity to review the DEIS, all comments received will be duly considered in preparing a Final EIS. The Final EIS is expected to be completed during the spring of 2011 and availability of the document will be similarly announced in the Federal Register and via local and regional press media.

Dated: April 5, 2010.
Cicely A. Muldoon,
Acting Regional Director, Pacific West Region.

[FR Doc. 2010-22145 Filed 9-3-10; 8:45 am]

BILLING CODE 4310-MS-P